DEPARTMENT OF LABOR

Employment and Training Administration

[TA-W-41,086]

Abbott Laboratories, Laurinburg, NC; Notice of Revised Determination on Reconsideration

By application of May 1, 2002, the company requested administrative reconsideration regarding the Department's Negative Determination Regarding Eligibility to Apply for Worker Adjustment Assistance, applicable to the workers of the subject firm.

The initial investigation resulted in a negative determination, based on the finding that imports of medical equipment (IV units, surgical kits, trays etc.) did not contribute importantly to worker separations at the subject plant. The denial notice was signed on April 11, 2002 and published in the Federal Register on April 24, 2002 (67 FR 20166).

The company requested reconsideration based on a misunderstanding of the “Business Confidential Data Request Form” they supplied the Department of Labor. The company failed to supply quantities and timing of products that are being imported back to the United States.

A review of import data supplied by the company on administrative reconsideration shows that the company began importing medical equipment “like or directly competitive” with products produced at the subject plant during the relevant period.

Conclusion

After careful consideration of the new facts obtained on reconsideration, it is concluded that increased imports of medical equipment, contributed importantly to the decline in production and to the total or partial separation of workers at Abbott Laboratories, Laurinburg, North Carolina. In accordance with the provisions of the Act, I make the following revised determination:

“All workers of Abbott Laboratories, Laurinburg, North Carolina, who became totally or partially separated from employment on or after February 18, 2001 through two years from the date of this certification, are eligible to apply for adjustment assistance under Section 223 of the Trade Act of 1974.”

Signed in Washington, DC, this 31st day of May, 2002.
Edward A. Tomchick,
Director, Division of Trade Adjustment Assistance.

[FR Doc. 02-14799 Filed 6-11-02; 8:45 am]

BILLING CODE 4510-30-P